NUCLEAR REGULATORY COMMISSION

[Docket Nos. 50-369, 370, 413, and 414]

Duke Energy Corporation, McGuire, Units 1 and 2, and Catawba, Units 1 and 2; Notice of Receipt of Application for Renewal of Facility Operating License Nos. NPF-9, NPF-17, NPF-35, and NPF-52 for an Additional 20-Year Period

The U.S. Nuclear Regulatory Commission has received applications from Duke Energy Corporation, dated June 13, 2001, filed pursuant to section 103 of the Atomic Energy Act of 1954, as amended, and 10 CFR part 54 for renewal of Operating License Nos. NPF-9, NPF-17, NPF-35, and NPF-52, which authorize the applicant to operate McGuire Nuclear Station, Units 1 and 2, and Catawba Nuclear Station, Units 1 and 2, respectively. The McGuire nuclear facility is located 17miles north-northwest of Charlotte, NC, in Mecklenburg County. The current operating licenses for McGuire, Units 1 and 2, expire on June 12, 2021, and March 3, 2023, respectively. The Catawba nuclear facility is located 18 miles southwest of Charlotte, NC, in York County. The operating licenses for Catawba, Units 1 and 2, expire on December 6, 2024, and February 24, 2026, respectively. All four Duke Energy Corporation nuclear units are four-loop pressurized-water reactors designed by Westinghouse. The acceptability of the tendered applications for docketing and other matters, including an opportunity to request a hearing will be the subject of a subsequent Federal Register notice.

Copies of the applications are available electronically for public inspection at the Commission's Public Document Room, located at One White Flint North, 11555 Rockville Pike (first floor), Rockville, Maryland, or from the Publicly Available Records (PARS) component of the NRC's Agencywide Documents Access and Management System (ADAMS). The ADAMS Public Electronic Reading Room is accessible from the NRC Web site at http://www.nrc.gov/NRC/ADAMS/index.html. In addition, the applications are available on the NRC web page at http://www.nrc.gov/NRC/REACTOR/LR/index.html. If you do not have access to ADAMS or if there are problems in accessing the documents located in ADAMS, contact the NRC Public Document Room (PDR) Reference staff at 1-800-397-4209, 301-415-4737 or by email to pdr@nrc.gov.

The staff has verified that copies of the license renewal applications for the McGuire and Catawba nuclear stations have been provided to the J. Murrey Atkins Library in Charlotte, North Carolina, and to the York County Library System in South Carolina.

Dated at Rockville, Maryland, the 10th day of July 2001.
For the Nuclear Regulatory Commission.
Christopher I. Grimes,
Chief, License Renewal and Standardization Branch, Division of Regulatory Improvement Programs, Office of Nuclear Reactor Regulation.

[FR Doc. 01-17697 Filed 7-13-01; 8:45 am]

BILLING CODE 7590-01-P